DEPARTMENT OF AGRICULTURE

Agricultural Marketing Service

7 CFR Part 46

[Document Number: AMS-FV-09-0047]

Perishable Agricultural Commodities Act: Impact of Post-Default Agreements on Trust Protection Eligibility

AGENCY: Agricultural Marketing Service, USDA.

ACTION: Proposed rule; reopening of comment period.

SUMMARY: Due to requests from members of the fruit and vegetable industry, notice is hereby given that the comment period on the proposed rule published on June 8, 2010 [75 FR 32306] titled, Perishable Agricultural Commodities Act: Impact of Post-Default Agreements on Trust Protection Eligibility is reopened and extended for an additional 30 days. Reopening the comment period would allow interested parties time to fully analyze the proposed rule and submit comments.

DATES: Comments must be received by September 22, 2010.

ADDRESSES: You may submit written or electronic comments to PACA Trust Post-Default Comments, AMS, F&V Programs, PACA Branch, 1400 Independence Avenue, SW., Room 2095-S, Stop 0242, Washington, DC 20250-0242; fax: 202-720-8868; or Internet: http://www.regulations.gov. All comments should reference the document number, date, and page number of this issue and the June 8, 2010, issue of the Federal Register.

FOR FURTHER INFORMATION CONTACT: Phyllis L. Hall or Josephine E. Jenkins, Trade Practices Section, 202-720-6873.

SUPPLEMENTARY INFORMATION: A proposed rule was published on June 8, 2010 (75 FR 32306). The proposed amendment to the regulations under the Perishable Agricultural Commodities Act (PACA) would allow a seller, supplier, or agent who has met the eligibility requirements to enter into a written scheduled payment agreement for payment of the past due amount while maintaining its trust eligibility.

The comment period for the proposed rule ended on August 9, 2010; however, several produce associations have requested an additional 30 days to provide comments that are more thorough. AMS believes it is beneficial to reopen and extend the comment period for an additional 30-days in order to receive input from all interested parties.

Authority: 7 U.S.C. 499a-499t.

Dated: August 17, 2010.
David R. Shipman,
Acting Administrator, Agricultural Marketing Service.

[FR Doc. 2010-20849 Filed 8-20-10; 8:45 am]

BILLING CODE 3410-02-P